DEPARTMENT OF STATE

[Public Notice 3323]

Office of International Information Programs, Civnet Editorial Services; Request for Proposals

SUMMARY: The Office of Thematic Programs (IIP/T) announces an open competition for an editorial services/information technology program in support of Civnet, the civic education Internet resource. Private non-profit organizations meeting the provisions described in IRS regulation 26 CFR 1.501c(3), including civic education institutions, NGOs and other democracy advocates, may submit proposals to support international information activities that will assist civic education practitioners, advocates, and other interested professionals in developing programs, policies, and strategies, and in communicating with one another. The successful grantee will have substantial experience in civic education and/or democracy building, especially on the international level.

Program Information

Overview

Civnet is a web site on civic education (http://www.civnet.org), and presently contains, inter alia, information on the non-governmental organization (NGO), and civic education movement called CIVITAS, as well as civics teaching resources (e.g., text books, curricula, syllabi, lesson plans, great documents, articles on teaching methodology), journal articles on civil society, directories of civic education/civil society organizations, and conference transcripts from CIVITAS meetings. Civnet was conceived to address the needs of three primary groups of civic education practitioners: (1) Teachers/school administrators (K-12) (particularly in new and emerging democracies), who need practical teaching resources and the capability to network with other practitioners; (2) scholars, experts, and academics interested in civics, democracy, and civic education issues; and (3) NGOs and their leaders who support civic education, civic participation, civic journalism and civil-society building in the U.S. and around the world.

The successful proposal will require information gathering, resource development, advocacy, and public relations—via the Internet—on behalf of the global civic education movement: to promote international adoption of civic education standards and curricula; to assist international organizations, governments, and foundations in adopting civic education reform as part of their criteria for awarding international assistance, and to persuade them to fund civic education programs; and to support, encourage, and report on the efforts of civic education NGOs in teacher training, textbook development, development of professional teacher organizations, and advocacy for civic education reform.

Detailed Information and Background

The grantee will conduct most or all of these activities using Web sites and listservs, so the grantee must have experience with Internet advocacy as well as civic education. In addition, the grantee will have to immerse itself (via telephone, email, and other communications) in the international civic education network and remain current in all efforts to promote civic education around the world. Grantee will be responsible to not only update the Civnet website regularly and thus serve as a critical communications hub, but will ensure that the site reports on all significant efforts and outcomes in the cause of advocating for civic education worldwide.

In addition to maintaining these operations, Civnet will be emphasizing the needs of civic education NGOs in the next year, and thus focussing on an additional audience: the governments, international organizations (e.g., World Bank, EC, IADB), and private foundations to which the CIVITAS network will be advocating, persuading, lobbying, and seeking partnerships/funds.

The successful proposal will develop Civnet so that it becomes a means through which those in the CIVITAS network who are working to promote and strengthen civic education worldwide can shape strategy, recruit support, and share information. The grantee will demonstrate a willingness to immerse itself via telephone, email, and other forms of communications, in the worldwide CIVITAS network and remain current in all efforts to promote civic education around the world. The grantee will also maintain regular contact with the CIVITAS Steering Committee (and its Executive Board), membership, and Secretariat (located in Strasbourg, France), as well as CIVITAS liaison officers and contacts at the U.S. Department of State and other government agencies and international organizations. Grantee will also be current with all the literature and newsletters of the civic education community.

The successful applicant will serve as an Internet advocate for civic education. As such the applicant must not only understand the Internet medium, but also understand advocacy generally, and be willing to immerse itself in the burgeoning international civic education network/movement. Internet generalists without advocacy skills or a passion for this type of movement would not meet the requirements of this RFP.

Proposals from web designer or web master firms without education or democracy-building experience will not be successful. Likewise proposals from web design or IT firms that only subcontract for the subject-matter expertise will not be successful. Rather, the contractor must have a demonstrated background in the field of advocacy for education or democracy. Please do not make an inquiry or send in a proposal if you lack this fundamental criterion of the RFP.

Further Information

In addition to providing editorial services, the successful Grantee will also be responsible for serving as Civnet webmaster, HTML formatter/scripter, and will ensure that Civnet reports on a regular basis (daily or weekly depending on the advent of new developments, events, and information) on all efforts and outcomes in the cause of advocating for civic education worldwide. In particular, this will entail communicating CIVITAS messages and themes, and engaging in Internet advocacy/lobbying of governments and international organizations (IOs) to support CIVITAS efforts to implement its Actions Steps and goals.

Furthermore, the successful proposal will provide coverage of all upcoming developments that may have an impact on these efforts (such as pending legislation, IO policy changes/grants, NGO delegation meetings with IOs and other pertinent developments), and reporting on civic education meetings, workshops, and conferences.

The successful proposal will emphasize the needs of civic education NGOs in the near future, and thus focus on an additional audience: the governments, international organizations (e.g., World Bank, EC, IDB), and private foundations with which the CIVITAS network will be advocating, persuading, lobbying, and seeking partnerships/funds.

While the Civnet web site must continue to fulfill its educational resource function, it must also grow to meets its intended promotional role and become a true advocacy site for civic education for democracy. Civnet must shift focus from its present general dialogue about civil society to a more deliberate strategy of strengthening the CIVITAS network and mobilizing it to press for more effective education for democracy.

One of the strongest assets the grantee should draw upon to accomplish this is the membership of the CIVITAS network itself: educators and NGO leaders engaged in efforts to implement educational reform in their own countries and to draw international support for their efforts. News and comment about these activities should become the central subject matter for Civnet in the year ahead. The grantee will have to offer strong and imaginative editorial leadership to successfully persuade the busy NGO leaders and organizers to communicate in clear and interesting ways about what they are doing or the challenges they confront. Material will have to be solicited and rewritten; inadequate contributions will have to be turned down, tactfully. Thought will have to be given to emerging issues. In addition, the grantee will engage in all basic Web mastering functions; i.e., responsibility for designing, compiling, managing, and editing all aspects (even the non-advocacy aspects) of the Web site. This may entail carrying out varied tasks, including: (1) Maintaining regular and ongoing contacts with practitioners, potential contributors, and representatives of Civnet's potential audiences in the international civic education community (e.g. teachers, teacher trainers, educators, scholars, experts, and NGO players); (2) immersing itself and becoming well-versed in the subject matter of civic education and the current discourses on civil society; (3) collecting, compiling, and uploading civics teaching materials (for Civnet's teaching resource library), including lesson plans, syllabi, curricula, text books, and any other materials that would be useful for foreign teachers/educators/practitioners; (4) collecting (and in some cases commissioning or even writing) and proofreading articles (e.g., originals, reprints, book synopses and reviews, manuals on civic standards, lectures) that may be of interest to scholars and NGO leaders; (5) maintaining the layout of Civnet as a home page that will be useful, organized, easily navigable, and appealing to Civnet's primary audiences, and that integrates all of Civnet's resources, including its library of teaching materials; (6) regularly updating the Civnet Calendar of Events; (7) utilizing listservs to promote Civnet; (8) uploading new information to Civnet's vast directory of organizations (this is maintained as an off-line database by the American Federation of Teachers); (9) promoting and marketing Civnet to its audiences and potential audiences (this is especially important); (10) collecting whatever graphics are appropriate for uploading to Civnet; (11) writing, editing, and introducing contents on Civnet's home page and sub-pages; (12) seeking, wherever necessary, agreements to publish copyrighted material on Civnet; (13) maintaining and updating Civnet's links to other Web sites; and (14) establishing Civnet as a dynamic, current, useful, creative, and exciting Web site for the civic education community.

Grantee will seek and receive guidance from the State Department officer assigned to oversee the grant, and grantee will also heed input from the CIVITAS Executive Board and Secretariat, and from State Department officials that work to promote civic education in new and emerging democracies and countries in transition from dictatorship, and those with regional expertise.

IIP reserves the right to review, edit, and clear any materials which grantee selects to appear on Civnet. While experience in Web mastering/editing is a requirement for the proposal, it cannot be overemphasized that the principal criterion for selection will be experience in issue advocacy, preferably in the field of democracy building or education. The winning applicant would ideally demonstrate experience with and passion for democracy building or civic education in new and emerging democracies, and countries in transition from dictatorship. In other words, the winning applicant must: (1) Demonstrate proficiency with Internet advocacy; (2) the ability to interact with and immerse itself within the field of civic education advocacy; and (3) understand the basics of persuasion, public relations, lobbying, NGO recruitment, and NGO grass-roots organizing as it would be applied through the Internet. An applicant with a primarily technical background would be unsatisfactory.

Moreover, this does not call for a passive Web manager, who would merely format materials that would be sent in for publishing. The successful grantee will be actively soliciting the materials, and will be expected to cajole people in the CIVITAS network and beyond to contribute such materials and information. The grantee must be willing to edit those materials, and have the diplomatic skills to reject some materials and deal with diverse individuals and groups all over the world.

However, a civic education NGO activist with no experience or proficiency in the web will be equally deficient. The winning applicant must demonstrate some experience with web sites or electronic publications, particularly those that advocate on behalf of organizations or causes. The grantee must engage in web formatting and layout on a regular basis, and will be responsible for all parts of the web site, including but not limited to the sections on teaching resource materials.

To reiterate, the winning applicant must have a track record demonstrating not only proficiency in web editing, but also a passion for democracy building and/or civic education. Grantee must have experience in web advocacy. Successful grantee will become the communications hub of the international civic education community, a regular conversationalist with key players all over the world, an eventual possessor of a definitive email/phone rolodex of civic education actors, and possibly a fixture at civic education events. A proficient web master who does not wish to immerse itself in this civic education movement or in civic education issues will not meet the threshold requirements of this RFP.

Guidelines

The grant is expected to commence o/a August 2000 and end a/o September 30, 2001. Grantee may subcontract for services related to Civnet, such as Web hosting, technical support, database support, and other services necessary to support the site, but no additional funds will be provided for these services.

Proposals must contain: (1) An outline for Civnet for the next year that will encompass the requirements detailed above; (2) a description of the human resources and capabilities of the applicant to demonstrate the necessary experience detailed above (if the applicant is a group/consortium or more than one individual, than it must be specified how tasks will be divided up, as well as the primary contact); and (3) a comprehensive pro forma budget delineating fees and rates for the various services required. The grant award under this RFP may not exceed $125,000. Any accompanying materials and URLs demonstrating prior work or supporting materials are welcome and encouraged.

Programs must comply with J-1 visa regulations. Please refer to Solicitation Package for further information.

Budget Guidelines: Grants awarded to eligible organizations with less than four years of experience in conducting international exchange programs will be limited to $60,000.

Although Civnet will probably be maintained on IIP's host server, the grantee will be responsible for its own computer, communications, and office equipment for updating Civnet, accessing the Internet, emailing and FTPing files to the server, and contacting people within the CIVITAS network worldwide and those to whom grantee seeks to promote Civnet. IIP will not be responsible for supplying any equipment and communications services, including computers, modems, telephones, and Internet connections.

Requests for funds for commissioning articles on civic education, or for technical maintenance of Civnet, may be part of the proposal. The proposal may include modest commissions to participants in the CIVITAS network who follow professional developments that would interest their colleagues, but who ordinarily lack the time and incentive to communicate about these issues with their colleagues abroad.

Applicants must submit a comprehensive budget for the entire program. There must be a summary budget as well as breakdowns reflecting both administrative and program budgets. Applicants may provide separate sub-budgets for each program component, phase, location, or activity to provide clarification.

Please refer to the Solicitation Package for complete budget guidelines and formatting instructions.

Announcement Title and Number: All correspondence with the Bureau concerning this RFP should reference the above title and number IIP/T-00-1.

FOR FURTHER INFORMATION, CONTACT: The Office of Thematic Programs, IIP/T/TP, Room 567, U.S. Department of State, 301 4th Street, SW., Washington, DC 20547, telephone 202-619-4758, fax 202-619-6557, email pagnew@pd.state.gov to request a Solicitation Package. The Solicitation Package contains detailed award criteria, required application forms, specific budget instructions, and standard guidelines for proposal preparation. Please specify Bureau Program Officer Pen Agnew on all other inquiries and correspondence.

Please read the complete Federal Register announcement before sending inquiries or submitting proposals. Once the RFP deadline has passed, Bureau staff may not discuss this competition with applicants until the proposal review process has been completed.

To Download a Solicitation Package Via Internet: The entire Solicitation Package may be downloaded from the Bureau's website at http://exchanges.state.gov/education/rfps. Please read all information before downloading.

Deadline for Proposals: All proposal copies must be received at the Office of International Information Programs by 5 p.m. Washington, D.C. time on July 7, 2000. Faxed documents will not be accepted at any time. Documents postmarked the due date but received on a later date will not be accepted. Each applicant must ensure that the proposals are received by the above deadline.

Applicants must follow all instructions in the Solicitation Package. The original and number copies of the application should be sent to: U.S. Department of State, SA-44, Office of International Information Programs, IIP/T/TP, Ref.: IIP/T-00-1, Program Management, ECA/EX/PM, Room 336, 301 4th Street, SW., Washington, DC 20547.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the “Support for Diversity” section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.”

Proposals should reflect advancement of this goal in their program contents, to the full extent deemed feasible.

Year 2000 Compliance Requirement (Y2K Requirement)

The Year 2000 (Y2K) issue is a broad operational and accounting problem that could potentially prohibit organizations from processing information in accordance with Federal management and program specific requirements including data exchange with the Bureau. The inability to process information in accordance with Federal requirements could result in grantees' being required to return funds that have not been accounted for properly.

The Bureau therefore requires all organizations use Y2K compliant systems including hardware, software, and firmware. Systems must accurately process data and dates (calculating, comparing and sequencing) both before and after the beginning of the year 2000 and correctly adjust for leap years.

Additional information addressing the Y2K issue may be found at the General Services Administration's Office of Information Technology website at http://www.itpolicy.gsa.gov.

Review Process

The Bureau will acknowledge receipt of all proposals and will review them for technical eligibility. Proposals will be deemed ineligible if they do not fully adhere to the guidelines stated herein and in the Solicitation Package. All eligible proposals will be reviewed by the program office, as well as the Public Diplomacy section overseas, where appropriate. Eligible proposals will be forwarded to panels of Bureau officers for advisory review. Proposals may also be reviewed by the Office of the Legal Adviser or by other Department elements. Final funding decisions are at the discretion of the Department of State's Under Secretary for Public Diplomacy and Public Affairs. Final technical authority for assistance awards (grants or cooperative agreements) resides with the Bureau's Grants Officer.

Review Criteria

Technically eligible applications will be competitively reviewed according to the criteria stated below. These criteria are not rank ordered and all carry equal weight in the proposal evaluation:

1. Quality of the program idea: Proposals should exhibit originality, substance, precision, and relevance to the Bureau's mission.

2. Program planning: Detailed agenda and relevant work plan should demonstrate substantive undertakings and logistical capacity. Agenda and plan should adhere to the program overview and guidelines described above.

3. Ability to achieve program objectives: Objectives should be reasonable, feasible, and flexible. Proposals should clearly demonstrate how the institution will meet the program's objectives and plan.

4. Multiplier effect/impact: Proposed programs should strengthen long-term mutual understanding, including maximum sharing of information and establishment of long-term institutional and individual linkages.

5. Support of Diversity: Proposals should demonstrate substantive support of the Bureau's policy on diversity. Achievable and relevant features should be cited in both program administration (selection of participants, program venue and program evaluation) and program content (orientation and wrap-up sessions, program meetings, resource materials and follow-up activities).

6. Institutional Capacity: Proposed personnel and institutional resources should be adequate and appropriate to achieve the program or project's goals.

7. Institution's Record/Ability: Proposals should demonstrate an institutional record of successful exchange programs, including responsible fiscal management and full compliance with all reporting requirements for past Bureau grants as determined by Bureau Grant Staff. The Bureau will consider the past performance of prior recipients and the demonstrated potential of new applicants.

8. Follow-on Activities: Proposals should provide a plan for continued follow-on activity (without Bureau support) ensuring that Bureau supported programs are not isolated events.

9. Project Evaluation: Proposals should include a plan to evaluate the activity's success, both as the activities unfold and at the end of the program. A draft survey questionnaire or other technique plus description of a methodology to use to link outcomes to original project objectives is recommended. Successful applicants will be expected to submit intermediate reports after each project component is concluded or quarterly, whichever is less frequent.

10. Cost-effectiveness: The overhead and administrative components of the proposal, including salaries and honoraria, should be kept as low as possible. All other items should be necessary and appropriate.

11. Cost-sharing: Proposals should maximize cost sharing through other private sector support as well as institutional direct funding contributions.

12. Value to U.S.-Partner Country Relations: Proposed projects should receive positive assessments by the U.S. Department of State's geographic area desk and overseas officers of program need, potential impact, and significance in the partner country(ies).

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Notice

The terms and conditions published in this RFP are binding and may not be modified by any Bureau representative. Explanatory information provided by the Bureau that contradicts published language will not be binding. Issuance of the RFP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: May 16, 2000.
Evelyn S. Lieberman,
Under Secretary for Public Diplomacy and Public Affairs, U.S. Department of State.

[FR Doc. 00-13542 Filed 5-30-00; 8:45 am]

BILLING CODE 4710-11-P